ENVIRONMENTAL PROTECTION AGENCY

[EPA-HQ-OAR-2007-0482; FRL-12701-01-OMS]

Agency Information Collection Activities; Submission to the Office of Management and Budget for Review and Approval; Comment Request; SmartWay Transport Partnership (Renewal)

AGENCY: Environmental Protection Agency (EPA).

ACTION: Notice.

SUMMARY: The Environmental Protection Agency has submitted an information collection request (ICR), SmartWay Transport Partnership (EPA ICR Number 2265.05, OMB Control Number 2060-0663) to the Office of Management and Budget (OMB) for review and approval in accordance with the Paperwork Reduction Act. This is a proposed extension of the ICR, which is currently approved through March 31, 2025. Public comments were previously requested via the Federal Register filed on December 11, 2024 during a 60-day comment period. This notice allows for an additional 30 days for public comments.

DATES: Comments may be submitted on or before April 28, 2025.

ADDRESSES: Submit your comments, referencing Docket ID No. EPA-HQ-OAR-2024-0423 online using www.regulations.gov (our preferred method), by email to a-and-r-docket@epa.gov, or by mail to: EPA Docket Center, Environmental Protection Agency, Mail Code 28221 T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Erik Herzog, U.S. Environmental Protection Agency, 2000 Traverwood Drive, S-72, Ann Arbor, MI 48105; telephone number: 734-214-4487; Fax: 734-214-4906; email address: herzog.erik@epa.gov.

SUPPLEMENTARY INFORMATION: This is a proposed extension of the ICR, which is currently approved through March 25, 2025. An agency may not conduct or sponsor and a person is not required to respond to a collection of information unless it displays a currently valid OMB control number.

Public comments were previously requested via the Federal Register on December 11, 2024 during a 60-day comment period (89 FR 99856). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The EPA's Office of Air and Radiation (OAR) developed the SmartWay Transport Partnership (“SmartWay”) under directives outlined in Subtitle D of the Energy Policy Act of 2005 which calls on EPA to assess the energy and air quality impacts of activities within the freight industry. These activities include long-duration truck idling, the development and promotion of strategies for reducing idling, fuel consumption, and negative air quality effects. SmartWay's objectives also are consistent with the Clean Air Act, the Federal Technology Transfer Act and other laws that authorize and support research, training and air pollutant control activities.

SmartWay is open to organizations that own, operate, or contract with fleet operations, including truck, rail, barge, air and multi-modal carriers, logistics companies, and shippers. Organizations that do not operate fleets, but that are working to strengthen the freight industry, such as industry trade associations, state and local transportation agencies and environmental groups, also may join as SmartWay affiliates. All organizations that join SmartWay are asked to provide EPA with information as part of their SmartWay registration to annually benchmark their transportation-related operations and improve the environmental performance of their freight activities.

A company joins SmartWay when it completes and submits a SmartWay Annual Reporting tool to EPA. The company submits an updated reporting tool annually thereafter. Truck carriers with fewer than 20 trucks may submit their annual updates through the On-Line Truck Tool Short Form, rather than the full On-LineTruck Tool version. EPA may ask its SmartWay partners for other kinds of information which could include opinions and test data on the effectiveness of new and emerging technology applications, sales volumes associated with SmartWay-recommended vehicle equipment and technologies, the reach and value of partnering with EPA through the SmartWay Partnership, and awareness of the SmartWay brand.

Form Numbers: 5900-488, 5900-498, 5900-490, 5900-491.

Respondents/affected entities: Entities potentially affected by this action include private and public organizations that join the SmartWay Transport Partnership; freight industry representatives who engage in activities related to the SmartWay Partnership; and representative samplings of consumers in the general public.

Respondent's obligation to respond: Voluntary.

Estimated number of respondents: 6, 74 (total).

Frequency of response: Annually.

Total estimated burden: 18,802 hours (per year). Burden is defined at 5 CFR 1320.03(b).

Total estimated cost: $743,774 (per year) which includes $0 annualized capital or operation & maintenance costs.

Changes in estimates: There is a decrease of 4,226 hours in the total estimated respondent partner burden compared with the ICR currently approved by OMB. This decrease reflects the following adjustments and program changes: (1) Implementation of a new On-Line Truck Tools for most partners and (2) The reduction of the number of annual Affiliate Applications.

Courtney Kerwin,
Director, Information Engagement Division.

[FR Doc. 2025-05380 Filed 3-27-25; 8:45 am]

BILLING CODE 6560-50-P